DEPARTMENT OF THE TREASURY

Office of the Comptroller of the Currency

[OCC Charter Number 703691]

Heritage Bank of St. Tammany, Covington, Louisiana; Approval of Conversion Application

Notice is hereby given that on May 15, 2017, the Office of the Comptroller of the Currency (OCC) approved the application of Heritage Bank of St. Tammany, Covington, Louisiana, to convert to the stock form of organization. Copies of the application are available on the OCC Web site at the FOIA Reading Room (https://foia-pal.occ.gov/palMain.aspx) under Mutual to Stock Conversion Applications. If you have any questions, please contact Licensing Activities at (202) 649-6260.

Dated: May 15, 2017.
By the Office of the Comptroller of the Currency.
Donald W. Dwyer,
Thrift Licensing Lead Expert.

[FR Doc. 2017-10206 Filed 5-18-17; 8:45 am]

BILLING CODE 4810-33-P